DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. OFAC is also publishing an update to the identifying information of one person currently included on the SDN List.

DATES: See Supplementary Information section for applicable date(s).

FOR FURTHER INFORMATION CONTACT: OFAC: Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

A. On May 19, 2023, OFAC determined that the property and interests in property subject to U.S. jurisdiction of the following persons are blocked under the relevant sanctions authority listed below.

B.On June 15, 2023 OFAC updated the entry on the SDN List for the following person, whose property and interests in property subject to U.S. jurisdiction continue to be blocked under the relevant sanctions authority listed below.

1. GOLD MILES LIMITED, 9B Shun Pont Commerical Building, 5 Thomson Road, Wanchai, Hong Kong, China; Suite 1601 Lake Central Tower, Marasi Drive, Business Bay, P.O. Box 417761, Dubai, United Arab Emirates; Organization Established Date 05 May 2011; Target Type Private Company; Registration Number 1596444 (Hong Kong) [RUSSIA-EO14024] (Linked To: HANAFIN, John Desmond).

-to-

GOLD MILES LIMITED, 9B Shun Pont Commercial Building, 5 Thomson Road, Wanchai, Hong Kong, China; Suite 1601 Lake Central Tower, Marasi Drive, Business Bay, P.O. Box 417761, Dubai, United Arab Emirates; Organization Established Date 05 May 2011; Target Type Private Company; Registration Number 1596444 (Hong Kong) [RUSSIA-EO14024] (Linked To: HANAFIN, John Desmond).

Designated pursuant to section 1(a)(vii) of E.O. 14024 for being owned or controlled by, or having acted or purported to act for or on behalf of, directly or indirectly, John Desmond Hanafin, a person whose property and interests in property are blocked pursuant to E.O. 14024.

Dated: June 15, 2023
Andrea M. Gacki,
OFAC Director, Office of Foreign Assets Control, U.S. Department of the Treasury.

[FR Doc. 2023-13138 Filed 6-20-23; 8:45 am]

BILLING CODE 4810-AL-P